DEPARTMENT OF AGRICULTURE

Forest Service

Siuslaw Resource Advisory Committee

AGENCY: Forest Service, USDA.

ACTION: Notice of meeting.

SUMMARY: The Siuslaw Resource Advisory Committee will meet in Corvallis, OR. The purpose of the meeting is to Review RAC FY10 Business, Elect Chairperson, Set FY11 Overhead Rate, Monitoring Report, Information Share, Public Forum and 2011 Project Review.

DATES: The meeting will be held May 18, 2010 beginning at 8 a.m.

ADDRESSES: The meeting will be held at the Siuslaw National Forest Supervisor's Office, 4077 SW. Research Way, Corvallis Oregon.

FOR FURTHER INFORMATION CONTACT: Joni Quarnstrom, Public Affairs Officer, Siuslaw National Forest, 541/750-7025 or write to Forest Supervisor, Siuslaw National Forest, 4077 SW. Research Way Corvallis, OR 97333.

SUPPLEMENTARY INFORMATION: A public input period will begin before 2011 project review.

Dated: May 5, 2010.
Michael Harvey,
Recreation/Lands Staff.

[FR Doc. 2010-11164 Filed 5-12-10; 8:45 am]

BILLING CODE 3410-11-M